DEPARTMENT OF COMMERCE

National Oceanic and Atmospheric Administration

RIN 0648-XC014

Marine Mammals; File Nos. 15777 and 17670

AGENCY: National Marine Fisheries Service (NMFS), National Oceanic and Atmospheric Administration (NOAA), Commerce.

ACTION: Notice; withdrawal of application and receipt of application.

SUMMARY: Notice is hereby given that the NMFS Northeast Fisheries Science Center, Woods Hole, MA (Responsible Party: Michael Simpkins), has withdrawn application File No. 15777 and submitted a new application (File No. 17670) for a permit to take marine mammals during scientific research in coastal waters and adjacent waters off the northeast U.S.

DATES: Written, telefaxed, or email comments must be received on or before November 23, 2012.

ADDRESSES: The application and related documents are available for review by selecting “Records Open for Public Comment” from the Features box on the Applications and Permits for Protected Species (APPS) home page, https://apps.nmfs.noaa.gov, and then selecting File No. 15777 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Tammy Adams or Amy Sloan, (301) 427-8401.

SUPPLEMENTARY INFORMATION:

File No. 15777. The application, submitted under the authority of the Marine Mammal Protection Act of 1972, as amended (MMPA; 16 U.S.C. 1361 et seq.), and the regulations governing the taking and importing of marine mammals (50 CFR part 216) was made available for public comment on May 4, 2012 (77 FR 26513). In response to public comments, the applicant proposed substantial changes to the numbers of and manner in which marine mammals may be taken. The changes, which are equivalent to a major permit amendment as defined in the regulations, require additional public review and comment. The application is hereby withdrawn and replaced with a revised version, referred to as File No. 17670.

File No. 17670. The subject permit is requested under the authority of the MMPA, and the regulations governing the taking and importing of marine mammals (50 CFR part 216). The applicant requests a five-year permit to take harbor seals (Phoca vitulina concolor), gray seals (Halichoerus grypus), harp seals (Pagophilus groenlandicus), and hooded seals (Cystophora cristata) during conduct of stock assessment research, including estimation of distribution and abundance, determination of stock structure, habitat requirements, foraging ecology, health assessment and effects of natural and anthropogenic factors. Types of take include harassment during shipboard, skiff, and aircraft transect and photo-identification surveys, and scat collection; and capture with tissue sampling and instrument or tag attachment. The applicant proposes to capture up to 175 harbor seals and 225 gray seals annually for measurement of body condition, collection of tissue samples (e.g., blood, blubber biopsy, skin, hair, swab samples, vibrissae), and attachment of telemetry devices. Up to 200 harp seals, 50 hooded seals, 59,000 harbor seals, and 67,000 gray seals could be harassed annually incidental to surveys, scat collections and capture operations. The applicant also requests research-related mortality of up to 8 gray seals, 8 harbor seals, 2 harp seals, and 2 hooded seals per year. Permission is also sought to import and export pinniped specimen material (including soft and hard tissue, blood, extracted DNA, and whole dead animals or parts thereof) to/from any country. The study area includes waters within or proximal to the U.S. EEZ from North Carolina northward to Maine, and Canadian waters in the Gulf of Maine.

In compliance with the National Environmental Policy Act of 1969 (42 U.S.C. 4321 et seq.), an initial determination has been made that the activity proposed is categorically excluded from the requirement to prepare an environmental assessment or environmental impact statement.

Dated: October 18, 2012.
P. Michael Payne,
Chief, Permits and Conservation Division, Office of Protected Resources, National Marine Fisheries Service.

[FR Doc. 2012-26233 Filed 10-23-12; 8:45 am]

BILLING CODE 3510-22-P